INTERNATIONAL TRADE COMMISSION

[Inv. No. 337-TA-439]

In the Matter of: Certain HSP Modems, Software and Hardware Components Thereof, and Products Containing Same; Notice of a Commission Determination To Grant a Joint Motion To Terminate the Investigation on the Basis of a Settlement Agreement

AGENCY: International Trade Commission.

ACTION: Notice.

SUMMARY: Notice is hereby given that the U.S. International Trade Commission has determined to grant a joint motion to terminate the above-captioned investigation on the basis of a settlement agreement.

FOR FURTHER INFORMATION CONTACT: Tim Monaghan, Esq., telephone 202-205-3152, Office of the General Counsel, U.S. International Trade Commission, 500 E Street, SW, Washington, DC 20436. Copies of all nonconfidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server, http://www.usitc.gov. The public record for this investigation may be viewed on the Commission's electronic docket (EDIS-ON-LINE) at http://dockets.usitc.gov/eol.public. Hearing-impaired persons are advised that information on the matter can be obtained by contacting the Commission's TDD terminal on 202-205-1810.

SUPPLEMENTARY INFORMATION: The Commission instituted this investigation on October 11, 2000, based on a complaint filed by PCTEL, Inc. (“PCTEL”) of Milpitas, California. The complaint named Smart Link Ltd. of Netanya, Israel and Smart Link Technologies, Inc. of Watertown, Massachusetts (collectively “Smart Link”) and ESS Technology, Inc. (“ESS”) of Fremont, California as respondents. The complaint alleged that Smart Link and ESS had violated section 337 of the Tariff Act of 1930 by importing into the United States, selling for importation, and/or selling within the United States after importation certain HSP modems, software and hardware components thereof, and products containing the same by reason of infringement of claims 1-2 of U.S. Letters Patent 5,787,305, claims 1-4, 7-8, and 11-15 of U.S. Letters Patent 5,931,950, claims 1, 2, 10, and 15-17 of U.S. Letters Patent 4,841,561, and claims 1, 6-7, 10-12, and 15-19 of U.S. Letters Patent 5,940,459. On June 28, 2001, the Commission determined not to review an ID on the merits terminating the investigation as to respondent Smart Link on the basis of a settlement agreement. On October 18, 2001, the ALJ issued his final ID in the investigation, and on December 6, 2001, the Commission determined to review portions of the final ID and to extend the target date for completion of the investigation by 45 days, to March 4, 2002. On Friday, February 22, 2002, complainant PCTEL and respondent ESS filed a joint motion to terminate the investigation based on a settlement agreement. On March 4, 2002, the Commission determined to extend the target date for completion of the investigation by 17 days, until March 21, 2002, to allow sufficient time for the Commission investigative attorney (“IA”) to respond to the motion to terminate and for the Commission to rule on the motion. On March 6, 2002, the IA filed a response in support of the joint motion to terminate. This action is taken under the authority of section 337 of the Tariff Act of 1930, as amended (19 U.S.C. 1337), and sections 210.21 and 210.50 of the Commission's Rules of Practice and Procedure, (19 CFR 210.21 and 210.50)

By order of the Commission.
Issued: March 13, 2002.
Marilyn R. Abbott,
Secretary.

[FR Doc. 02-6461 Filed 3-15-02; 8:45 am]

BILLING CODE 7020-02-P